DEPARTMENT OF THE INTERIOR

National Park Service

Notice of Intent for Low Gullah Culture Special Resource Study

AGENCY: National Park Service, Interior.

ACTION: Notice of intent to prepare a Draft Environmental Impact Statement on the Low Country Gullah Culture Special Resource Study.

SUMMARY: The National Park Service (NPS) will prepare a Draft Environmental Impact Statement (DEIS) on the Low Country Gullah Culture Special Resource Study (SRS). The NPS will conduct public scoping meetings within the resource study area to receive input on issues, concerns and proposals believed to be relevant to the management of Gullah/Geechee culture. The meetings may also address the inclusion of potential sites associated with Gullah/Geechee culture as units of the National Park System. Of particular interest to the NPS are suggestions and ideas for managing cultural and natural resources associated with Gullah/Geechee culture and developing both new and existing interpretive programs to provide the public with greater opportunities to understand and experience Gullah/Geechee culture. The DEIS process will formulate and evaluate environmental impacts associated with various types and levels of visitor use and resource management.

DATES: The dates and times of the public scoping meetings will be published in local newspapers and posted on the Charles Pinckney National Historic Site (South Carolina) web site at www.nps.gov/chpi. These dates and times may also be obtained by contacting the NPS Southeast Regional Office, Division of Planning and Compliance. Scoping suggesting will be accepted throughout the planning process; however, the NPS prefers that suggestions be submitted prior to May 15, 2002. The NPS anticipates that the DEIS will be available for public review by July 30, 2002.

ADDRESSES: The specific locations of the public scoping meetings will be published in local newspapers and on the Charles Pinckney National Historic Site web site at www.nps.gov/chpi. At a minimum, meeting locations will include Charleston, South Carolina and Savannah, Georgia. Should the need arise for additional meetings, those meetings will be noticed in the same fashion. These locations may also be obtained by contacting the NPS Southeast Regional Office, Division of Planning and Compliance. Written scoping suggestions should be submitted to the following address: Planning Team Leader, Low Country Gullah Culture Special Resource Study, NPS Southeast Regional Office, Division of Planning and Compliance, 100 Alabama Street, SW, 6th Floor, 1924 Building, Atlanta, Georgia 30303.

FOR FURTHER INFORMATION CONTACT: John Barrett Planning Team Leader, Low Country Gullah Culture Special Resource Study, 404-562-3124, extension 637.

SUPPLEMENTARY INFORMATION: The NPS has announced that an EIS on SRSs will be prepared for all proposed park units; consistent with this policy this EIS is being prepared. Issues currently being considered for EIS include a determination of Gullah/Geechee culture's national significance and an assessment of the suitability and feasibility of various Gullah/Geechee-associated sites as potential additions to the National Park System. The EIS will identify cultural and natural resources of the Gullah/Geechee culture and evaluate a range of potential management options that might adequately protect these resources.

Our practice is to make comments, including names and addresses of respondents, available for public review during regular business hours. If you wish for us to withhold your name and/or address, you must state this prominently at the beginning of your comment. We will make all submission from organizations or businesses, and from individuals identifying themselves as representatives or officials of organizations or business, available for public inspection in their entirety.

The responsible official for this environmental impact statement is Jerry Belson, Regional Director, National Park Service, Southeast Region, 100 Alabama Street SW., Atlanta, Georgia 30303.

Dated: February 11, 2002.
W. Thomas Brown,
Acting Regional Director, Southeast Region.

[FR Doc. 02-8625 Filed 4-9-02; 8:45 am]

BILLING CODE 4310-70-M